FEDERAL COMMUNICATIONS COMMISSION

47 CFR Part 73

[DA 02-3362; MM Docket No. 01-291; RM-10301]

Radio Broadcasting Services; Cherokee, OK

AGENCY: Federal Communications Commission.

ACTION: Proposed rule; dismissal.

SUMMARY: Maurice Salsa (“Salsa”) filed a petition for rule making requesting the allotment of FM Channel 237C2 to Cherokee, Oklahoma, as that community's first local aural transmission service. See 66 FR 53755, October 24, 2001. Robert Fabian (“Fabian”) filed a counterproposal regarding the communities of Cherokee and Ft. Supply, Oklahoma. Subsequently, Salsa and Fabian each withdrew their interests in this proceeding. A showing of continuing interest is required before a channel will be allotted to a community. Further, Commission policy refrains from making an allotment in the absence of an expression of interest. Therefore, since we have no continuing interest by either party, we dismiss Salsa's petition regarding Cherokee, Oklahoma, and grant Fabian's request to withdraw his counterproposal.

FOR FURTHER INFORMATION CONTACT: Nancy Joyner, Media Bureau, (202) 418-2180.

SUPPLEMENTARY INFORMATION: This is a synopsis of the Commission's Report and Order, MM Docket No. 01-291, adopted December 4, 2002, and released December 9, 2002. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

Federal Communications Commission.
John A. Karousos,
Assistant Chief, Audio Division, Media Bureau.

[FR Doc. 02-32291 Filed 12-23-02; 8:45 am]

BILLING CODE 6712-01-P